DEPARTMENT OF JUSTICE

Drug Enforcement Administration

[Docket No. DEA-964]

Bulk Manufacturer of Controlled Substances Application: Synthcon LLC

AGENCY: Drug Enforcement Administration, Justice.

ACTION: Notice of application.

SUMMARY: Synthcon LLC has applied to be registered as a bulk manufacturer of basic class(es) of controlled substance(s). Refer to Supplemental Information listed below for further drug information.

DATES: Registered bulk manufacturers of the affected basic class(es), and applicants therefore, may file written comments on or objections to the issuance of the proposed registration on or before April 26, 2022. Such persons may also file a written request for a hearing on the application on or before April 26, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on December 2, 2021, Synthcon LLC, 770 Wooten Road, Suite 101, Colorado Springs, Colorado 80915-3538, applied to be registered as a bulk manufacturer of the following basic class(es) of controlled substance(s):

Controlled substance | Drug code | Schedule
3-FMC | 1233 | I
Cathinone | 1235 | I
Methcathinone | 1237 | I
4-FMC | 1238 | I
Pentedrone | 1246 | I
Mephedrone(4-Methyl-N-methylcathinone) | 1248 | I
4-MEC | 1249 | I
Naphyrone | 1258 | I
N-Ethylamphetamine | 1475 | I
N,N-Dimethylamphetamine | 1480 | I
Aminorex | 1585 | I
Cis-4-Methylaminorex | 1590 | I
GHB | 2010 | I
Methaqualone | 2565 | I
Mecloqualone | 2572 | I
JWH-250 | 6250 | I
ADB-PINACA | 7035 | I
JWH-018 | 7118 | I
JWH-073 | 7173 | I
JWH-200 | 7200 | I
JWH-203 | 7203 | I
4-Methyl-alpha-ethylaminopentiophenone | 7245 | I
N-Ethyhexedrone | 7246 | I
AET | 7249 | I
Ibogaine | 7260 | I
CP-47,497 | 7297 | I
CP-47,497 C8 HOMOLOG | 7298 | I
LSD | 7315 | I
2C-T-7 | 7348 | I
Tetrahydrocannabinols | 7370 | I
Mescaline | 7381 | I
2C-T-2 | 7385 | I
3,4,5-TMA | 7390 | I
DOB | 7391 | I
2CB | 7392 | I
DOM | 7395 | I
2,5-DMA | 7396 | I
JWH-398 | 7398 | I
DOE | 7399 | I
MDA | 7400 | I
5-METHOXY-MDA | 7401 | I
N-HYDROXY-MDA | 7402 | I
MDEA | 7404 | I
MDMA | 7405 | I
PMA | 7411 | I
5-MeO-DMT | 7431 | I
AMT | 7432 | I
Bufotenine | 7433 | I
DET | 7434 | I
DMT | 7435 | I
Psilocybin | 7437 | I
Psilocin | 7438 | I
5-Methoxy-N,N-diisopropyltryptamine | 7439 | I
4-Methyl-alpha-pyrrolidinohexiophenone | 7446 | I
PCE | 7455 | I
PCPy | 7458 | I
TCP | 7470 | I
TCPy | 7473 | I
JB323 | 7482 | I
JB336 | 7484 | I
BZP | 7493 | I
4-MePPP | 7498 | I
2C-D | 7508 | I
2C-E | 7509 | I
2C-H | 7517 | I
2C-I | 7518 | I
2C-C | 7519 | I
2C-N | 7521 | I
2C-P | 7524 | I
2C-T-4 | 7532 | I
MDPV | 7535 | I
25B-NBOME | 7536 | I
25C-NBOME | 7537 | I
25I-NBOME | 7538 | I
Methylone | 7540 | I
Butylone | 7541 | I
Pentylone | 7542 | I
N-Ethylpentyloe | 7543 | I
Alpha-Pyrrolidinohexanophenone | 7544 | I
Alpha-PVP | 7545 | I
Alpha-PBP | 7546 | I
Ethylone | 7547 | I
AM-694 | 7694 | I
Etorphine | 9056 | I
Heroin | 9200 | I
Normorphine | 9313 | I
Acetorphine | 9319 | I
U-47700 | 9547 | I
AH-7921 | 9551 | I
MT-45 | 9560 | I
Acetylmethadol | 9601 | I
Allylprodine | 9602 | I
Alphacetylmethadol | 9603 | I
Alphameprodine | 9604 | I
Alphamethadol | 9605 | I
Benzethidine | 9606 | I
Betacetylmethadol | 9607 | I
Clonitazine | 9612 | I
Isontonitazene | 9614 | I
Diampromide | 9615 | I
Diethylthiambutene | 9616 | I
Dimethylthiambutene | 9619 | I
Etonitazene | 9624 | I
Ketobemidone | 9628 | I
MPPP | 9661 | I
PEPAP | 9663 | I
Tilidine | 9750 | I
Acryl Fentanyl | 9811 | I
Para-fluorofentanyl | 9812 | I
3-Methylfentanyl | 9813 | I
Alpha-methylfentanyl | 9814 | I
Acetyl-alpha-methylfentanyl | 9815 | I
Ortho-fluorofentanyl | 9816 | I
Acetylfentanyl | 9821 | I
Butyrylfentanyl | 9822 | I
Para-fluorofentanyl | 9823 | I
4-Fluoroisobutyryl fentanyl (N-(4-fluorophenyl)-N-(1-phenethylpiperidin-4-yl)isobutyramide) | 9824 | I
Methoxyacetyl fentanyl | 9825 | I
Para-chloroisobutyryl fentanyl | 9826 | I
Isobutyrylfentanyl | 9827 | I
Beta-Hydroxyfentanyl | 9830 | I
Beta-Hydroxy-3-methylfentanyl | 9831 | I
Alpha-Methylthiofentanyl | 9832 | I
3-Methylthiofentanyl | 9833 | I
Furanylfentanyl | 9834 | I
Thiofentanyl | 9835 | I
Beta-Hydroxythiofentanyl | 9836 | I
Para-Methoxybutyryl Fetnanyl | 9837 | I
Ocfentanil | 9838 | I
Valeryl Fentanyl | 9840 | I
Tetrahydrofuranyl Fentanyl | 9843 | I
Crotonyl Fentanyl | 9844 | I
Cyclopropyl Fentanyl | 9845 | I
Cyclopentyl Fentanyl | 9847 | I
Fentanyl Related Compounds | 9850 | I
Amphetamine | 1100 | II
Methamphetamine | 1105 | II
1-Phenylcyclohexylamine | 7460 | II
PCP | 7471 | II
ANPP | 8333 | II
Norfentanyl | 8366 | II
P2P | 8501 | II
PCC | 8603 | II
Alphaprodine | 9010 | II
Anileridine | 9020 | II
Cocaine | 9041 | II
Diphenoxylate | 9170 | II
Ecgonine | 9180 | II
Levorphanol | 9220 | II
Meperidine | 9230 | II
Meperidine Intermediate-A | 9232 | II
Meperidine Intermediate-B | 9233 | II
Meperidine Intermediate-C | 9234 | II
Dextropropoxyphene | 9273 | II
Morphine | 9300 | II
Levo-alphacetylmethadol | 9648 | II
Alfentanil | 9737 | II
Remifentanil | 9739 | II
Sufentanil | 9740 | II
Carfentanil | 9743 | II
Tapentadol | 9780 | II
Fentanyl | 9801 | II

The company plans to bulk manufacture the listed controlled substances as analytical materials, proficiency test materials, and academic research materials for distribution to its customers. No other activities for these drug codes are authorized for this registration.

Matthew J. Strait,
Deputy Assistant Administrator.

[FR Doc. 2022-04057 Filed 2-24-22; 8:45 am]

BILLING CODE P